FEDERAL COMMUNICATIONS COMMISSION

47 CFR Part 73

[DA 04-3814; MB Docket No. 04-214; RM-10992]

Radio Broadcasting Services; Jackson, WY

AGENCY: Federal Communications Commission.

ACTION: Final rule.

SUMMARY: In response to a Notice of Proposed Rule Making, 69 FR 35564 (June 25, 2004), this Report and Order dismisses the Petition for Rule Making in MB Docket No. 04-214 proposing to allot Channel 249A at Jackson, Wyoming. No expression of interest was filed in this proposal.

FOR FURTHER INFORMATION CONTACT: Victoria M. McCauley, Media Bureau (202) 418-2180.

SUPPLEMENTARY INFORMATION: This is a synopsis of the Commission's Report and Order, MB Docket No. 04-214, adopted December 1, 2004, and released December 3, 2004. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was dismissed, herein.)

Federal Communications Commission.
John A. Karousos,
Assistant Chief, Audio Division, Media Bureau.

[FR Doc. 04-27792 Filed 12-17-04; 8:45 am]

BILLING CODE 6712-01-P